DEPARTMENT OF THE INTERIOR

National Park Service

National Register of Historic Places; Notification of Pending Nominations and Related Actions

Nominations for the following properties being considered for listing or related actions in the National Register were received by the National Park Service before May 20, 2006. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by June 21, 2006.

John W. Roberts,
Acting Chief, National Register/National Historic Landmarks Program.

MISSOURI

St. Louis Independent city

Autocar Sales and Service Building, (Auto-Related Resources of St. Louis, Missouri MPS) 2745 Locust, St. Louis (Independent City), 06000530

MONTANA

Lewis and Clark County

Alice Creek Historic District, USDA Forest Service, Helena National Forest, Lincoln, 06000531

NORTH DAKOTA

Bottineau County

Main, North Dakota School of Forestry, Old, Alexander St. (N of terminus with 2nd St.), Bottineau, 06000532

Grand Forks County

Grand Forks Near Southside Historic District (Boundary Increase), 1216 Belmont Rd., Grand Forks, 06000533

VERMONT

Washington County

Kents Corner Historic District, Kent Hill Rd., Old West Church Rd., Robinson Cemetery Rd., Fowler Rd. Bliss Pond Rd., Calais, 06000534

[FR Doc. E6-8701 Filed 6-5-06; 8:45 am]

BILLING CODE 4312-51-P